ENVIRONMENTAL PROTECTION AGENCY

40 CFR Part 271

[FRL-7550-3]

South Carolina: Final Authorization of State Hazardous Waste Management Program Revision

AGENCY: Environmental Protection Agency (EPA).

ACTION: Immediate final rule.

SUMMARY: South Carolina has applied to EPA for Final authorization of the changes to its hazardous waste program under the Resource Conservation and Recovery Act (RCRA). EPA has determined that these changes satisfy all requirements needed to qualify for Final authorization, and is authorizing the State's changes through this immediate final action. EPA is publishing this rule to authorize the changes without a prior proposal because we believe this action is not controversial and do not expect comments that oppose it. Unless we get written comments which oppose this authorization during the comment period, the decision to authorize South Carolina's changes to their hazardous waste program will take effect. If we get comments that oppose this action, we will publish a document in the Federal Register withdrawing this rule before it takes effect and a separate document in the proposed rules section of this Federal Register will serve as a proposal to authorize the changes.

DATES: This Final authorization will become effective on November 3, 2003, unless EPA receives adverse written comment by October 2, 2003. If EPA receives such comment, it will publish a timely withdrawal of this immediate final rule in the Federal Register and inform the public that this authorization will not take effect.

ADDRESSES: Send written comments to Narindar Kumar, Chief, RCRA Programs Branch, Waste Management Division, U.S. Environmental Protection Agency, Atlanta Federal Center, 61 Forsyth Street, SW., Atlanta, GA, 30303-3104; (404) 562-8448. You can view and copy South Carolina's applications from 9 a.m. to 4 p.m. at the following addresses: South Carolina Department of Health and Environmental Control, 2600 Bull Street, Columbia, South Carolina 29201, (803) 896-4174; and EPA Region 4, Atlanta Federal Center, Library, 61 Forsyth Street, SW., Atlanta, Georgia 30303; (404) 562-8190.

FOR FURTHER INFORMATION CONTACT: Narindar Kumar, Chief, RCRA Programs Branch, Waste Management Division, U.S. Environmental Protection Agency, Atlanta Federal Center, 61 Forsyth Street, SW., Atlanta, GA, 30303-3104; (404) 562-8448.

SUPPLEMENTARY INFORMATION:

A. Why Are Revisions to State Programs Necessary?

States which have received final authorization from EPA under RCRA section 3006(b), 42 U.S.C. 6926(b), must maintain a hazardous waste program that is equivalent to, consistent with, and no less stringent than the Federal program. As the Federal program changes, States must change their programs and ask EPA to authorize the changes. Changes to State programs may be necessary when Federal or State statutory or regulatory authority is modified or when certain other changes occur. Most commonly, States must change their programs because of changes to EPA's regulations in 40 Code of Federal Regulations (CFR) parts 124, 260 through 266, 268, 270, 273 and 279.

B. What Decisions Have We Made in This Rule?

We conclude that South Carolina's applications to revise its authorized program meets all of the statutory and regulatory requirements established by RCRA. Therefore, we grant South Carolina Final authorization to operate its hazardous waste program with the changes described in the authorization applications. South Carolina has responsibility for permitting Treatment, Storage, and Disposal Facilities (TSDFs) within its borders (except in Indian Country) and for carrying out the aspects of the RCRA program described in its revised program application, subject to the limitations of the Hazardous and Solid Waste Amendments of 1984 (HSWA). New Federal requirements and prohibitions imposed by Federal regulations that EPA promulgates under the authority of HSWA take effect in authorized States before they are authorized for the requirements. Thus, EPA will implement those requirements and prohibitions in South Carolina, including issuing permits, until the State is granted authorization to do so.

C. What Is the Effect of Today's Authorization Decision?

The effect of this decision is that a facility in South Carolina subject to RCRA will now have to comply with the authorized State requirements instead of the equivalent Federal requirements in order to comply with RCRA. South Carolina has enforcement responsibilities under its State hazardous waste program for violations of such program, but EPA retains its authority under RCRA sections 3007, 3008, 3013, and 7003, which include, among others, authority to:

• do inspections, and require monitoring, tests, analyses or reports

• enforce RCRA requirements and suspend or revoke permits

• take enforcement actions regardless of whether the State has taken its own actions

This action does not impose additional requirements on the regulated community because the regulations for which South Carolina is being authorized by today's action are already effective, and are not changed by today's action.

D. Why Wasn't There a Proposed Rule Before Today's Rule?

EPA did not publish a proposal before today's rule because we view this as a routine program change and do not expect comments that oppose this approval. We are providing an opportunity for public comment now. In addition to this rule, in the proposed rules section of today's Federal Register we are publishing a separate document that proposes to authorize the State program changes.

E. What Happens if EPA Receives Comments That Oppose This Action?

If EPA receives comments that oppose this authorization, we will withdraw this rule by publishing a document in the Federal Register before the rule becomes effective. EPA will base any further decision on the authorization of the State program changes on the proposal mentioned in the previous paragraph. We will then address all public comments in a later final rule. You may not have another opportunity to comment. If you want to comment on this authorization, you must do so at this time.

If we receive comments that oppose only the authorization of a particular change to the State hazardous waste program, we will withdraw that part of this rule but the authorization of the program changes that the comments do not oppose will become effective on the date specified above. The Federal Register withdrawal document will specify which part of the authorization will become effective, and which part is being withdrawn.

F. What Has South Carolina Previously Been Authorized for?

South Carolina initially received Final authorization on November 8, 1985, effective November 22, 1985 (50 FR 46437) to implement the RCRA hazardous waste management program. We granted authorization for changes to their program on September 8, 1988, effective November 7, 1988 (53 FR 34758), February 10, 1993, effective April 12, 1993 (58 FR 7865), November 29, 1994, effective January 30, 1995 (59 FR 60901), April 26, 1996, effective June 25, 1996 (61 FR 18502), October 4, 2000, effective December 4, 2000 (65 FR 59135) and August 21, 2001, effective October 22, 2001 (66 FR 43798).

G. What Changes Are We Authorizing With Today's Action?

On November 15, 2000 and December 20, 2001, South Carolina submitted final complete program revision applications, seeking authorization of their changes in accordance with 40 CFR 271.21. We now make an immediate final decision, subject to receipt of written comments that oppose this action, that South Carolina's hazardous waste program revisions satisfy all of the requirements necessary to qualify for Final authorization. Therefore, we grant South Carolina Final authorization for the following program changes:

Federal requirements | Federal Register | Analogous state authority ¹
Land Disposal Restrictions Phase III—Emergency Extension of the K088 National Capacity Variance, Amendment, Checklist 160, RCRA Cluster VIII, HSWA Provision | 62 FR 37694-37699, July 14, 1997 | SCHWMA § 44-56-30. SCHWMA § 44-56-130. SCHWM R.61-79.268.39(c).
Emergency Revision of the Carbamate Land Disposal Restrictions, Checklist 161, RCRA Cluster VIII, HSWA Provision | 62 FR 45568, August 28, 1997 | SCHWMA § 44-56-30. SCHWMA § 44-56-130. SCHWM R.61-79.268.4040(g). SCHWM R.61-79.268.48(a)/Table.
Clarification of Standards for Hazardous Waste LDR Treatment Variances, Checklist 162, RCRA Cluster VIII, HSWA Provision | 62 FR 64504-64509, December 5, 1997 | SCHWMA § 44-56-30. SCHWMA § 44-56-130. SCHWM R.61-79.268.44(h)into SCHWM R.61-79.268.44(h)(1). SCHWM R.61-79.268.44(h)(2) intro. SCHWM R.61-79.268.44(h)(2)(i). SCHWM R.61-79.268.44(h)(2)(ii). SCHWM R.61-79.268.44(h)(3). SCHWM R.61-79.268.44(m). SCHWM R.61-79.268.44(p).
Organic Air Emission Standards for Tanks, Surface Impoundments, and Containers: Clarification and Technical Amendment, Checklist 163, RCRA Cluster VIII, HSWA Provision | 62 FR 64636-64671, December 8, 1997 | SCHWMA § 44-56-30. SCHWMA § 44-56-130. SCHWM R.61-79.264.15(b)(4). SCHWM R.61-79.264.73(b)(6). SCHWM R.61-79.264.1030(b)(3). SCHWM R.61-79.264.1030(c). SCHWM R.61-79.264.1030(e). SCHWM R.61-79.264.1031. SCHWM R.61-79.264.1033(a)(2)(i).
|  | SCHWM R.61-79.264.1033(a)(2)(ii).
|  | SCHWM R.61-79.264.1033(a)(2)(iii).
|  | SCHWM R.61-79.264.1033(a)(2)(iv).
|  | SCHWM R.61-79.264.1050(b)(3).
|  | SCHWM R.61-79.264.1050(c).
|  | SCHWM R.61-79.264.1050(f).
|  | SCHWM R.61-79.264.1060(a).
|  | SCHWM R.61-79.264.1060(b)(1).
|  | SCHWM R.61-79.264.1060(b)(2).
|  | SCHWM R.61-79.264.1060(b)(3).
|  | SCHWM R.61-79.264.1060(b)(4).
|  | SCHWM R.61-79.264.1062(b)(2).
|  | SCHWM R.61-79.264.1062(b)(3).
|  | SCHWM R.61-79.264.1064(g)(6).
|  | SCHWM R.61-79.264.1064(m).
|  | SCHWM R.61-79.264.1080(b)(1).
|  | SCHWM R.61-79.264.1080(c).
|  | SCHWM R.61-79.264.1082(b).
|  | SCHWM R.61-79.264.1082(c)(2)(ix)(A).
|  | SCHWM R.61-79.264.1082(c)(2)(ix)(B).
|  | SCHWM R.61-79.264.1082(c)(3).
|  | SCHWM R.61-79.264.1082(c)(4)(ii).
|  | SCHWM R.61-79.264.1083(a)(2).
|  | SCHWM R.61-79.264.1083(b)(1).
|  | SCHWM R.61-79.264.1084(c)(2)(iii).
|  | SCHWM R.61-79.264.1084(c)(2)(iii)(B).
|  | SCHWM R.61-79.264.1084(c)(2)(iii)(B)(1).
|  | SCHWM R.61-79.264.1084(c)(2)(iii)(B)(2).
|  | SCHWM R.61-79.264.1084(e)(4).
|  | SCHWM R.61-79.264.1084(f)(3)(i)(D)(4).
|  | SCHWM R.61-79.264.1084(f)(3)(iii).
|  | SCHWM R.61-79.264.1084(f)(4).
|  | SCHWM R.61-79.264.1084(j)(2)(iii).
|  | SCHWM R.61-79.264.1085(b)(2).
|  | SCHWM R.61-79.264.1085(d)(1)(iii).
|  | SCHWM R.61-79.264.1085(d)(2)(i)(B).
|  | SCHWM R.61-79.264.1085(e)(2)(iii).
|  | SCHWM R.61-79.264.1086(c)(2).
|  | SCHWM R.61-79.264.1086(c)(4)(i).
|  | SCHWM R.61-79.264.1086(d)(2).
|  | SCHWM R.61-79.264.1086(d)(4)(i).
|  | SCHWM R.61-79.264.1086(g).
Organic Air Emission Standards for Tanks, Surface Impoundments, and Containers: Clarification and Technical Amendment, Checklist 163 cont., RCRA Cluster VIII, HSWA Provision | 62 FR 64636-64671, December 8, 1997 | SCHWM R.61-79.264.1087(c)(3)(ii) SCHWM R.61-79.264.1087(c)(7) SCHWM R.61-79.264.1089(a) SCHWM R.61-79.264.1089(b)(1)(ii)(B) SCHWM R.61-79.264.1089(f)(1) SCHWM R.61-79.264.1089(j) SCHWM R.61-79.264.1089(j)(1) SCHWM R.61-79.264.1089(j)(2) SCHWM R.61-79.265.15(b)(4)
|  | SCHWM R.61-79.265.73(b)(6)
|  | SCHWM R.61-79.265.1030(b)(3)
|  | SCHWM R.61-79.265.1030(d)
|  | SCHWM R.61-79.265.1033(a)(2)(i)
|  | SCHWM R.61-79.265.1033(a)(2)(ii)
|  | SCHWM R.61-79.265.1033(a)(2)(iii)
|  | SCHWM R.61-79.265.1033(a)(2)(iv)
|  | SCHWM R.61-79.265.1033(f)(2)(iv)(B)
|  | SCHWM R.61-79.265.1050(b)(3)
|  | SCHWM R.61-79.265.1050(e)
|  | SCHWM R.61-79.265.1060(a)
|  | SCHWM R.61-79.265.1060(b)(1)
|  | SCHWM R.61-79.265.1060(b)(2)
|  | SCHWM R.61-79.265.1060(b)(3)
|  | SCHWM R.61-79.265.1060(b)(4)
|  | SCHWM R.61-79.265.1062(b)(2)
|  | SCHWM R.61-79.265.1062(b)(3)
|  | SCHWM R.61-79.265.1064(g)(6)
|  | SCHWM R.61-79.265.1064(m)
|  | SCHWM R.61-79.265.1080(b)(1)
|  | SCHWM R.61-79.265.1080(c)
|  | SCHWM R.61-79.265.1081
|  | SCHWM R.61-79.265.1082(a)
|  | SCHWM R.61-79.265.1082(a)(1)
|  | SCHWM R.61-79.265.1082(a)(2)
|  | SCHWM R.61-79.265.1082(a)(2)(i)
|  | SCHWM R.61-79.265.1082(a)(2)(ii)
|  | SCHWM R.61-79.265.1082(a)(2)(iii)
|  | SCHWM R.61-79.265.1082(a)(2)(iv)
|  | SCHWM R.61-79.265.1082(b)
|  | SCHWM R.61-79.265.1082(b)(1)
|  | SCHWM R.61-79.265.1082(b)(2)
|  | SCHWM R.61-79.265.1082(b)(2)(i)
|  | SCHWM R.61-79.265.1082(b)(2)(ii)
|  | SCHWM R.61-79.265.1082(b)(2)(iii)
|  | SCHWM R.61-79.265.1082(c)
|  | SCHWM R.61-79.265.1082(d)
|  | SCHWM R.61-79.265.1083(b)
|  | SCHWM R.61-79.265.1083(c)(2)(i)
|  | SCHWM R.61-79.265.1083(c)(2)(ix)(A)
|  | SCHWM R.61-79.265.1083(c)(2)(ix)(B)
|  | SCHWM R.61-79.265.1083(c)(3)
Organic Air Emission Standards for Tanks, Surface Impoundments, and Containers: Clarification and Technical Amendment, Checklist 163 cont., RCRA Cluster VIII, HSWA Provision | 62 FR 64636-64671, December 8, 1997 | SCHWM R.61-79.265.1083(c)(4)(ii) SCHWM R.61-79.265.1084(a)(2) SCHWM R.61-79.265.1084(a)(3)(ii)(B) SCHWM R.61-79.265.1084(a)(3)(iii) SCHWM R.61-79.265.1084(a)(3)(iii)(A) SCHWM R.61-79.265.1084(a)(3)(iii)(F) SCHWM R.61-79.265.1084(a)(3)(iii)(G) SCHWM R.61-79.265.1084(a)(3)(iii)(G)(1)
|  | SCHWM R.61-79.265.1084(a)(3)(iv)
|  | SCHWM R.61-79.265.1084(a)(3)(iv)(A)
|  | SCHWM R.61-79.265.1084(a)(3)(iv)(B)
|  | SCHWM R.61-79.265.1084(a)(3)(iv)(B)(1)
|  | SCHWM R.61-79.265.1084(a)(3)(iv)(B)(2)
|  | SCHWM R.61-79.265.1084(a)(3)(v)
|  | SCHWM R.61-79.265.1084(a)(4)(iv)
|  | SCHWM R.61-79.265.1084(b)(1)
|  | SCHWM R.61-79.265.1084(b)(3)(ii)(B)
|  | SCHWM R.61-79.265.1084(b)(3)(iii)
|  | SCHWM R.61-79.265.1084(b)(3)(iii)(F)
|  | SCHWM R.61-79.265.1084(b)(3)(iii)(G)
|  | SCHWM R.61-79.265.1084(b)(3)(iv)
|  | SCHWM R.61-79.265.1084(b)(3)(v)
|  | SCHWM R.61-79.265.1084(b)(8)(iii)
|  | SCHWM R.61-79.265.1084(b)(9)(iv)
|  | SCHWM R.61-79.265.1084(d)(5)(ii)
|  | SCHWM R.61-79.265.1085(c)(2)(iii)
|  | SCHWM R.61-79.265.1085(c)(2)(iii)(B)
|  | SCHWM R.61-79.265.1085(c)(2)(iii)(B)(1)
|  | SCHWM R.61-79.265.1085(c)(2)(iii)(B)(2)
|  | SCHWM R.61-79.265.1085(e)(4)
|  | SCHWM R.61-79.265.1085(f)(3)(i)(D)(4)
|  | SCHWM R.61-79.265.1085(f)(4)
|  | SCHWM R.61-79.265.1085(j)(2)(iii)
|  | SCHWM R.61-79.265.1086(b)(2)
|  | SCHWM R.61-79.265.1086(d)(1)(iii)
|  | SCHWM R.61-79.265.1086(d)(2)(i)(B)
|  | SCHWM R.61-79.265.1086(e)(2)(iii)
|  | SCHWM R.61-79.265.1087(c)(4)(i)
|  | SCHWM R.61-79.265.1087(d)(4)(i)
|  | SCHWM R.61-79.265.1087(g)
|  | SCHWM R.61-79.265.1088(c)(3)(ii)
|  | SCHWM R.61-79.265.1088(c)(7)
|  | SCHWM R.61-79.265.1090(a)
|  | SCHWM R.61-79.265.1090(b)(1)(ii)(B)
|  | SCHWM R.61-79.265.1090(f)(1)
|  | SCHWM R.61-79.265.1090(j)
|  | SCHWM R.61-79.265.1090(j)(1)
|  | SCHWM R.61-79.265.1090(j)(2)
|  | SCHWM R.61-79.265 Appendix VI
|  | SCHWM R.61-79.270.14(b)(5)
Kraft Mill Steam Stripper, Condensate Exclusion, Checklist 164,RCRA Cluster VIII non-HSWA Provision | 63 FR 18504-18751, April 15, 1998 | SCHWMA § 44-56-30 SCHWM R.61-79.261.4(a)(15)
Land Disposal Restrictions Phase IV-Treatment Standards for Metal Wastes and Mineral Processing Waste, Checklist 167 A, RCRA Cluster VIII, HSWA Provision | 63 FR 28556-28753, May 26, 1998 | SCHWMA § 44-56-30 SCHWMA § 44-56-130 SCHWM R.61-79.268.2(i) SCHWM R.61-79.268.3(d) SCHWM R.61-79.268.34(a) SCHWM R.61-79.268.34(b) SCHWM R.61-79.268.34(c)
|  | SCHWM R.61-79.268.34(d)
|  | SCHWM R.61-79.268.34(d)(1)
|  | SCHWM R.61-79.268.34(d)(2)
|  | SCHWM R.61-79.268.34(d)(3)
|  | SCHWM R.61-79.268.34(d)(4)
|  | SCHWM R.61-79.268.34(d)(e)
|  | SCHWM R.61-79.268.40(e)
|  | SCHWM R.61-79.268.40(h)
|  | SCHWM R.61-79.268.40/Table “Treatment Standards for Hazardous Waste”
|  | SCHWM R.61-79.268.40/Table UTS
Land Disposal Restrictions Phase IV—Hazardous Soils Treatment Standards and Exclusions, Checklist 167 B, RCRA Cluster VIII, HSWA Provision | 63 FR 28556-28753, May 26, 1998 | SCHWMA § 44-56-30 SCHWMA § 44-56-130 SCHWM R.61-79.268.2(k) SCHWM R.61-79.268.7(a)(1) SCHWM R.61-79.268.7(a)(2) SCHWM R.61-79.268.7(a)(2)(i) SCHWM R.61-79.268.7(a)(2)(ii) SCHWM R.61-79.268.7(a)(3) intro
|  | SCHWM R.61-79.268.7(a)(3)(ii)
|  | SCHWM R.61-79.268.7(a)(4)
|  | SCHWM R.61-79.268.7(a)(4)/Table
|  | SCHWM R.61-79.268.7(a)(5)
|  | SCHWM R.61-79.268.7(a)(6)
|  | SCHWM R.61-79.268.7(b)(1)
|  | SCHWM R.61-79.268.7(b)(2)
|  | SCHWM R.61-79.268.7(b)(3)
|  | SCHWM R.61-79.268.7(b)(4) intro
|  | SCHWM R.61-79.268.7(e) intro
|  | SCHWM R.61-79.268.7(e)(1)
|  | SCHWM R.61-79.268.7(e)(2)
|  | SCHWM R.61-79.268.44(h)(3) intro
|  | SCHWM R.61-79.268.44(h)(3)(i)
|  | SCHWM R.61-79.268.44(h)(3)(i)(A)
|  | SCHWM R.61-79.268.44(h)(3)(i)(B)
Land Disposal Restrictions Phase IV-Hazardous Soils Treatment Standards and Exclusions, Checklist 167 cont., RCRA Cluster VIII, HSWA Provision | 63 FR 28556-28753, May 26, 1998 | SCHWM R.61-79.268.44(h)(3)(ii) SCHWM R.61-79.268.44(h)(4) SCHWM R.61-79.268.44(h)(5) SCHWM R.61-79.268.49(a) SCHWM R.61-79.268.49(b) SCHWM R.61-79.268.49(c) intro SCHWM R.61-79.268.49(c)(1) intro
|  | SCHWM R.61-79.268.49(c)(1)(A)
|  | SCHWM R.61-79.268.49(c)(1)(B)
|  | SCHWM R.61-79.268.49(c)(1)(C)
|  | SCHWM R.61-79.268.49(c)(2)
|  | SCHWM R.61-79.268.49(c)(3) intro
|  | SCHWM R.61-79.268.49(c)(3)(A)
|  | SCHWM R.61-79.268.49(c)(3)(B)
|  | SCHWM R.61-79.268.49(d)
|  | SCHWM R.61-79.268.49(e) intro
|  | SCHWM R.61-79.268.49(e)(1)
|  | SCHWM R.61-79.268.49(e)(2) intro
|  | SCHWM R.61-79.268.49(e)(2)(A)
|  | SCHWM R.61-79.268.49(e)(2)(B)
Land Disposal Restrictions Phase IV—Corrections, Checklist 167 C, RCRA Cluster VIII, HSWA Provision | 63 FR 28556-28753, May 26, 1998 | SCHWMA § 44-56-30 SCHWMA § 44-56-130 SCHWM R.61-79.268.4(a)(2)(ii) SCHWM R.61-79.268.4(a)(2)(iii) SCHWM R.61-79.268.4(a)(7) SCHWM R.61-79.268.4(b)(3)/Table SCHWM R.61-79.268.4(b)(4)(iv) SCHWM R.61-79.268.4(b)(4)(v)
|  | SCHWM R.61-79.268.4(b)(5)
|  | SCHWM R.61-79.268.4(b)(6)
|  | SCHWM R.61-79.268.40(e)
|  | SCHWM R.61-79.268.40/Table “Treatment Standard for Hazardous Wastes”
|  | SCHWM R.61-79.268.42(a)
|  | SCHWM R.61-79.268.45(a) intro
|  | SCHWM R.61-79.268.45(d)(3)
|  | SCHWM R.61-79.268.45(d)(4)
|  | SCHWM R.61-79.268.48(a)/Table UTS
|  | SCHWM R.61-79.268.45(d)(3)
|  | SCHWM R.61-79.268 Appendix VII, Table 1
|  | SCHWM R.61-79.268 Appendix VII, Table 2
|  | SCHWM R.61-79.268 Appendix VIII
Mineral Processing Secondary Materials Exclusion, Checklist 167 C, RCRA Cluster VIII, HSWA Provision | 63 FR 28556-28753, May 26, 1998 | SCHWMA § 44-56-30 SCHWMA § 44-56-130 SCHWM R.61-79.261.2(c)(3) SCHWM R.61-79.261.2(c)(4)/Table SCHWM R.61-79.261.2(e)(1)(iii) SCHWM R.61-79.261.4(a)(16) intro
|  | SCHWM R.61-79.261.4(a)(16)(i)
|  | SCHWM R.61-79.261.4(a)(16)(ii)
|  | SCHWM R.61-79.261.4(a)(16)(iii)
|  | SCHWM R.61-79.261.4(a)(16)(iv)
|  | SCHWM R.61-79.261.4(a)(16)(iv)(A)
|  | SCHWM R.61-79.261.4(a)(16)(iv)(B)
|  | SCHWM R.61-79.261.4(a)(16)(iv)(C)
|  | SCHWM R.61-79.261.4(a)(16)(v)
|  | SCHWM R.61-79.261.4(a)(16)(vi)
Bevill Exclusion Revisions and Clarifications, Checklist 167E, RCRA Cluster VIII, HSWA Provision | 63 FR 28556-28753, May 26, 1998 | SCHWMA § 44-56-30 SCHWMA § 44-56-130 SCHWM R.61-79.261.3(a)(2)(i) SCHWM R.61-79.261.3(a)(2)(iii) SCHWM R.61-79.261.4(b)(7) intro SCHWM R.61-79.261.4(b)(7)(i)
|  | SCHWM R.61-79.261.4(b)(7)(ii)
|  | SCHWM R.61-79.261.4(b)(7)(ii)(A)-(T)
|  | SCHWM R.61-79.261.4(b)(7)(iii)
|  | SCHWM R.61-79.261.4(b)(7)(iii)(A)
|  | SCHWM R.61-79.261.4(b)(7)(iii)(B)
Exclusion of Recycled Wood Preserving Wastewaters, Checklist 167F, RCRA Cluster VIII, HSWA Provision | 63 FR 28556-28753, May 26, 1998 | SCHWMA § 44-56-30 SCHWMA § 44-56-130 SCHWM R.61-79.261.4(a)(9)(iii) SCHWM R.61-79.261.4(a)(9)(iii)(A) SCHWM R.61-79.261.4(a)(9)(iii)(B) SCHWM R.61-79.261.4(a)(9)(iii)(C) SCHWM R.61-79.261.4(a)(9)(iii)(D) SCHWM R.61-79.261.4(a)(9)(iii)(E)
Hazardous Waste Combustors; Revised Standards, Checklist 168, RCRA Cluster VIII, non-HSWA Provision | 63 FR 33782-33829, June 19, 1998 | SCHWMA § 44-56-30 SCHWM R.61-79.261.4(a)(16) SCHWM R.61-79.261.38(a) intro SCHWM R.61-79.261.38(b) intro SCHWM R.61-79.261.38/Table 1 SCHWM R.61-79.261.38(c) intro SCHWM R.61-79.261.38(c)(1) SCHWM R.61-79.261.38(c)(1)(i) intro SCHWM R.61-79.261.38(c)(1)(i)(A) SCHWM R.61-79.261.38(c)(1)(i)(B)
Hazardous Waste Combustors; Revised Standards, Checklist 168 cont., RCRA Cluster VIII, non-HSWA Provision | 63 FR 33782-33829, June 19, 1998 | SCHWM R.61-79.261.38(c)(1)(i)(C) SCHWM R.61-79.261.38(c)(1)(ii) intro SCHWM R.61-79.261.38(c)(2) intro SCHWM R.61-79.261.38(c)(2)(i) SCHWM R.61-79.261.38(c)(2)(ii) intro SCHWM R.61-79.261.38(c)(2)(ii)(A) SCHWM R.61-79.261.38(c)(2)(ii)(B) SCHWM R.61-79.261.38(c)(2)(iii)
|  | SCHWM R.61-79.261.38(c)(3) intro
|  | SCHWM R.61-79.261.38(c)(4) intro
|  | SCHWM R.61-79.261.38(c)(4)(i) intro
|  | SCHWM R.61-79.261.38(c)(4)(ii)
|  | SCHWM R.61-79.261.38(c)(5) intro
|  | SCHWM R.61-79.261.38(c)(5)(i) intro
|  | SCHWM R.61-79.261.38(c)(5)(ii)
|  | SCHWM R.61-79.261.38(c)(6) intro
|  | SCHWM R.61-79.261.38(c)(7) intro
|  | SCHWM R.61-79.261.38(c)(7)(i) intro
|  | SCHWM R.61-79.261.38(c)(7)(ii) intro
|  | SCHWM R.61-79.261.38(c)(7)(iii)
|  | SCHWM R.61-79.261.38(c)(8) intro
|  | SCHWM R.61-79.261.38(c)(8)(i) intro
|  | SCHWM R.61-79.261.38(c)(8)(ii)
|  | SCHWM R.61-79.261.38(c)(8)(iii) intro
|  | SCHWM R.61-79.261.38(c)(8)(iii)(A)
|  | SCHWM R.61-79.261.38(c)(8)(iii)(B)
|  | SCHWM R.61-79.261.38(c)(8)(iv)
|  | SCHWM R.61-79.261.38(c)(8)(v)
|  | SCHWM R.61-79.261.38(c)(8)(vi)
|  | SCHWM R.61-79.261.38(c)(8)(vii)
|  | SCHWM R.61-79.261.38(c)(8)(viii) intro
|  | SCHWM R.61-79.261.38(c)(8)(viii)(A)
|  | SCHWM R.61-79.261.38(c)(8)(viii)(B)
|  | SCHWM R.61-79.261.38(c)(8)(ix)
|  | SCHWM R.61-79.261.38(c)(9)
|  | SCHWM R.61-79.261.38(c)(10) intro
|  | SCHWM R.61-79.261.38(c)(10)(i) intro
|  | SCHWM R.61-79.261.38(c)(10)(ii)
|  | SCHWM R.61-79.261.38(c)(10)(iii)
|  | SCHWM R.61-79.261.38(c)(10)(iv)
|  | SCHWM R.61-79.261.38(c)(10)(v)
|  | SCHWM R.61-79.261.38(c)(10)(vi)
|  | SCHWM R.61-79.261.38(c)(10)(vii)
|  | SCHWM R.61-79.261.38(c)(10)(viii) intro
|  | SCHWM R.61-79.261.38(c)(10)(viii)(A)
|  | SCHWM R.61-79.261.38(c)(10)(ix) intro
|  | SCHWM R.61-79.261.38(c)(11)
|  | SCHWM R.61-79.261.38(c)(12) intro
Hazardous Waste Combustors; Revised Standards, Checklist 168 continued. RCRA Cluster VIII, non-HSWA Provision | 63 FR 33782-22829, June 19, 1998 | SCHWM R.61-79.261.38(c)(13) SCHWM R.61-79.270.42(j) intro SCHWM R.61-79.270.42(j)(1) SCHWM R.61-79.270.42(j)(2) SCHWM R.61-79.270.42 Appendix I SCHWM R.61-79.270.72(b)(8)
Petroleum Refining Wastes, Checklist 169, RCRA Cluster IX, HSWA/non-HSWA Provision | 63 FR 42110-42189, August 6, 1998 as amended at 63 FR 54356-54357, October 9, 1998 | SCHWMA § 44-56-30 SCHWMA § 44-56-130 SCHWM R.61-79.261.3(a)(2)(iv)(C) SCHWM R.61-79.261.3(c)(2)(ii)(B) SCHWM R.61-79.261.3(c)(2)(ii)(E) SCHWM R.61-79.261.4(a)(12)(i) SCHWM R.61-79.261.4(a)(12)(ii) SCHWM R.61-79.261.4(a)(18 SCHWM R.61-79.261.4(a)(18)(i) SCHWM R.61-79.261.4(a)(18)(ii) SCHWM R.61-79.261.4(a)(19) SCHWM R.61-79.261.6(a)(3)(v)(C) SCHWM R.61-79.261.6(a)(3)(vi) SCHWM R.61-79.261.31(a) SCHWM R.61-79.261.42 SCHWM R.61-79.261 Appendix VII SCHWM R.61-79.266.100(b)(3) SCHWM R.61-79.268.35(a) SCHWM R.61-79.268.35(b) intro SCHWM R.61-79.268.35(b)(1) SCHWM R.61-79.268.35(b)(2) SCHWM R.61-79.268.35(b)(3) SCHWM R.61-79.268.35(b)(4) SCHWM R.61-79.268.35(b)(5) SCHWM R.61-79.268.25(c) SCHWM R.61-79.268.40/Table
Land Disposal Restrictions Phase IV—Zinc Micronutrient Fertilizers, Amendment, Checklist 170, RCRA Cluster IV, HSWA | 63 FR 46332-46334, August 31, 1998 | SCHWMA § 44-56-30 SCHWMA § 44-56-130 SCHWM R.61-79.268.40(i)
Emergency Revision of the Land Disposal Restrictions (LDR) Treatment Standards for Listed Hazardous Waste from Carbamate Production. CHecklist 171, RCRA Cluster IX, HSWA | 63 FR 47410-47418, September 4, 1998 | SCHWMA § 44-56-30 SCHWMA § 44-56-130 SCHWM R.61-79.268.40(i) SCHWM R.61-79.268.40/Table SCHWM R.61-79.268.48(a)/Table
Land Disposal Restrictions Phase IV—Extension of Compliance Date for Characteristic Slags, Checklist 172, RCRA Cluster IV, HSWA Provision | 63 FR 48124-48127, September 9, 1998 | SCHWMA § 44-56-30 SCHWMA § 44-56-130 SCHWM R.61-79.268.34(b)-(f)
Land Disposal Restrictions; Treatment Standards for Spent Potliners from Primary Aluminum Reduction (K0888); Final Rule, Checklist 173, RCRA Cluster IX, HSWA Provision | 63 FR 51254-51267, September 24, 1998 | SCHWMA § 44-56-30 SCHWMA § 44-56-130 SCHWM R.61-79.268.40/Table
Post-Closure Permit Requirement and Closure Process, Checklist 174, RCRA Cluster IX, HSWA/non HSWA Provision | 63 FR 56710-56735, October 22, 1998 | SCHWMA § 44-56-30 SCHWMA § 44-56-40 SCHWMA § 44-56-50 SCHWMA § 44-56-60 SCHWMA § 44-56-130 SCHWM R.61-79.264.90(e) SCHWM R.61-79.264.90(f) intro SCHWM R.61-79.264.90(f) SCHWM R.61-79.264.90(f)(1) SCHWM R.61-79.264.90(f)(2) SCHWM R.61-79.264.110(c) SCHWM R.61-79.264.110(c)(1) SCHWM R.61-79.264.110(c)(2) SCHWM R.61-79.264.112(b)(8) SCHWM R.61-79.264.112(c)(2)(iv) SCHWM R.61-79.264.118(b)(4) SCHWM R.61-79.264.118(d)(2)(iv) SCHWM R.61-79.264.140(d) SCHWM R.61-79.264.140(d)(1) SCHWM R.61-79.264.140(d)(2)
Post-Closure Permit Requirement and Closure Process, Checklist 174 cont., RCRA Cluster IX, HSWA/non HSWA Provision | 63 FR 56710-56735, October 22, 1998 | SCHWM R.61-79.264.90(f) SCHWM R.61-79.264.90(f)(1) SCHWM R.61-79.264.90(f)(2) SCHWM R.61-79.264.110(c) SCHWM R.61-79.264.112(b)(8) SCHWM R.61-79.264.112(c)(1)(iv) SCHWM R.61-79.264.118(c)(4) SCHWM R.61-79.264.118(c)(5) SCHWM R.61-79.264.118(d)(1)(iii) SCHWM R.61-79.265.140(d)(2) SCHWM R.61-79.270.14(a) SCHWM R.61-79.264.28(a)
HWIR-Media, Checklist 175, RCRA Cluster IX, HSWA/non HSWA Provision | 63 FR 65874-65947, November 30, 1998 | SCHWMA § 44-56-30 SCHWMA § 44-56-60 SCHWM 61-79.260.10 “CAMU” SCHWM R.61-79.260.10 “facility” SCHWM R.61-79.260.10 “miscellaneous unit” SCHWM R.61-79.260.10 “remediation waste”
|  | SCHWM R.61-79.260.10 “remediation waste management site”
|  | SCHWM R.61-79.260.10 “staging pile”
|  | SCHWM R.61-79.261.4(g) intro
|  | SCHWM R.61-79.261.4(g)(1)
|  | SCHWM R.61-79.261.4(g)(2) intro
|  | SCHWM R.61-79.261.4(g)(2)(i)
|  | SCHWM R.61-79.261.4(g)(2)(ii)
|  | SCHWM R.61-79.261.4(g)(2)(iii)
|  | SCHWM R.61-79.264.1(j) intro
|  | SCHWM R.61-79.264.1(j)(1)
|  | SCHWM R.61-79.264.1(j)(2)
|  | SCHWM R.61-79.264.1(j)(3) intro
|  | SCHWM R.61-79.264.1(j)(3)(i)
|  | SCHWM R.61-79.264.1(j)(3)(ii)
|  | SCHWM R.61-79.264.1(j)(4)
|  | SCHWM R.61-79.264.1(j)(5)
|  | SCHWM R.61-79.264.1(j)(6)
|  | SCHWM R.61-79.264.1(j)(7)
|  | SCHWM R.61-79.264.1(j)(8)
|  | SCHWM R.61-79.264.1(j)(9)
|  | SCHWM R.61-79.264.1(j)(10)
|  | SCHWM R.61-79.264.1(j)(11)
|  | SCHWM R.61-79.264.1(j)(12)
|  | SCHWM R.61-79.264.1(j)(13)
|  | SCHWM R.61-79.264.73(b)(17)
|  | SCHWM R.61-79.264.101(d)
|  | SCHWM R.61-79.264.552(a) intro
|  | SCHWM R.61-79.264.552(a)(1)
|  | SCHWM R.61-79.264.552(a)(2)
|  | SCHWM R.61-79.264.553(a)
|  | SCHWM R.61-79.264.554 intro
|  | SCHWM R.61-79.264.554(a)
|  | SCHWM R.61-79.264.554(b)
|  | SCHWM R.61-79.264.554(c) intro
|  | SCHWM R.61-79.264.554(c)(1)
|  | SCHWM R.61-79.264.554(c)(2)
|  | SCHWM R.61-79.264.554(c)(3)
|  | SCHWM R.61-79.264.55(d) intro
|  | SCHWM R.61-79.264.554(d)(1) intro
HWIR-Media, Checklist 175 cont., RCRA Cluster IX, HSWA/non HSWA Provision | 63 FR 65874-65947, November 30, 1998 | SCHWM R.61-79.264.554(d)(1)(i) SCHWM R.61-79.264.554(d)(1)(ii) SCHWM R.61-79.264.554(d)(1)(iii) SCHWM R.61-79.264.554(d)(2) SCHWM R.61-79.264.554(d)(2)(ii)
|  | SCHWM R.61-79.264.554(d)(2)(iii)
|  | SCHWM R.61-79.264.554(d)(2)(iv)
|  | SCHWM R.61-79.264.554(d)(2)(v)
|  | SCHWM R.61-79.264.554(d)(2)(vi)
|  | SCHWM R.61-79.264.554(e) intro
|  | SCHWM R.61-79.264.554(e)(1)
|  | SCHWM R.61-79.264.554(e)(1)(i)
|  | SCHWM R.61-79.264.554(e)(1)(ii)
|  | SCHWM R.61-79.264.554(e)(2)
|  | SCHWM R.61-79.264.554(f) intro
|  | SCHWM R.61-79.264.554(f)(1)
|  | SCHWM R.61-79.264.554(f)(2)
|  | SCHWM R.61-79.264.554(f)(3)
|  | SCHWM R.61-79.264.554(g)
|  | SCHWM R.61-79.264.554(h)
|  | SCHWM R.61-79.264.554(i) intro
|  | SCHWM R.61-79.264.554(i)(1)
|  | SCHWM R.61-79.264.554(i)(1)(i)
|  | SCHWM R.61-79.264.554(i)(1)(ii)
|  | SCHWM R.61-79.264.554(i)(2)
|  | SCHWM R.61-79.264.554(j) intro
|  | SCHWM R.61-79.264.554(j)(1)
|  | SCHWM R.61-79.264.554(j)(1)(i)
|  | SCHWM R.61-79.264.554(j)(1)(ii)
|  | SCHWM R.61-79.264.554(j)(1)(iii)
|  | SCHWM R.61-79.264.554(j)(2)
|  | SCHWM R.61-79.264.554(j)(3)
|  | SCHWM R.61-79.264.554(k) intro
|  | SCHWM R.61-79.264.554(k)(1)
|  | SCHWM R.61-79.264.554(k)(2)
|  | SCHWM R.61-79.264.554(l) intro
|  | SCHWM R.61-79.264.554(l)(1)
|  | SCHWM R.61-79.264.554(l)(1)(i)
|  | SCHWM R.61-79.264.554(l)(1)(ii)
|  | SCHWM R.61-79.264.554(l)(2)
|  | SCHWM R.61-79.264.554(l)(3)
|  | SCHWM R.61-79.264.554(l)(4)
|  | SCHWM R.61-79.264.554(m)
|  | SCHWM R.61-79.265.1(b)
|  | SCHWM R.61-79.268.2(c)
|  | SCHWM R.61-79.268.50(g)
|  | SCHWM R.61-79.270.2
|  | SCHWM R.61-79.270.11(d)(1)
|  | SCHWM R.61-79.270.11(d)(2)
|  | SCHWM R.61-79.270.42 Appendix 1
HWIR-Media, Checklist 175 cont., RCRA Cluster IX, HSWA/non HSWA Provision | 63 FR 65874-65947, November 30, 1998 | SCHWM R.61-79.270.80(b) SCHWM R.61-79.270.80(c) SCHWM R.61-79.270.80(d) intro SCHWM R.61-79.270.80(d)(1) SCHWM R.61-79.270.80(d)(2) SCHWM R.61-79.270.80(e) SCHWM R.61-79.270.80(f)
|  | SCHWM R.61-79.270.85(a) intro
|  | SCHWM R.61-79.270.85(a)(1)
|  | SCHWM R.61-79.270.85(a)(2)
|  | SCHWM R.61-79.270.85(b)
|  | SCHWM R.61-79.270.85(c)
|  | SCHWM R.61-79.270.90
|  | SCHWM R.61-79.270.95
|  | SCHWM R.61-79.270.100
|  | SCHWM R.61-79.270.105
|  | SCHWM R.61-79.270.110intro
|  | SCHWM R.61-79.270.110(a)
|  | SCHWM R.61-79.270.110(b)
|  | SCHWM R.61-79.270.110(c)
|  | SCHWM R.61-79.270.110(d)
|  | SCHWM R.61-79.270.110(e) intro
|  | SCHWM R.61-79.270.110(e)(1)
|  | SCHWM R.61-79.270.110(e)(2)
|  | SCHWM R.61-79.270.110(e)(3)
|  | SCHWM R.61-79.270.110(f) intro
|  | SCHWM R.61-79.270.110(f)(1)
|  | SCHWM R.61-79.270.110(f)(2)
|  | SCHWM R.61-79.270.110(f)(3)
|  | SCHWM R.61-79.270.110(g)
|  | SCHWM R.61-79.270.110(h)
|  | SCHWM R.61-79.270.110(i)
|  | SCHWM R.61-79.270.115
|  | SCHWM R.61-79.270.120
|  | SCHWM R.61-79.270.125
|  | SCHWM R.61-79.270.130(a)
|  | SCHWM R.61-79.270.130(b)
|  | SCHWM R.61-79.270.135intro
|  | SCHWM R.61-79.270.135(a)
|  | SCHWM R.61-79.270.135(b) intro
|  | SCHWM R.61-79.270.135(b)(1)
|  | SCHWM R.61-79.270.135(b)(2)
|  | SCHWM R.61-79.270.135(b)(3)
|  | SCHWM R.61-79.270.135(b)(4)
|  | SCHWM R.61-79.270.135(c)
|  | SCHWM R.61-79.270.140 intro
|  | SCHWM R.61-79.270.140(a)
|  | SCHWM R.61-79.270.140(b) intro
|  | SCHWM R.61-79.270.140(b)(4)
HWIR-Media, Checklist 175 cont., RCRA Cluster IX, HSWA/non HSWA Provision | 63 FR 65874-65947, November 30, 1998 | SCHWM R.61-79.270.140(b)(1) SCHWM R.61-79.270.140(b)(2) SCHWM R.61-79.270.140(b)(3) SCHWM R.61-79.270.140(c) SCHWM R.61-79.270.145(a) intro SCHWM R.61-79.270.145(a)(1)
|  | SCHWM R.61-79.270.145(a)(2)
|  | SCHWM R.61-79.270.145(a)(3)
|  | SCHWM R.61-79.270.145(a)(4)
|  | SCHWM R.61-79.270.145(b)
|  | SCHWM R.61-79.270.145(c) intro
|  | SCHWM R.61-79.270.145(c)(1)
|  | SCHWM R.61-79.270.145(c)(2)
|  | SCHWM R.61-79.270.145(c)(3)
|  | SCHWM R.61-79.270.145(c)(4)
|  | SCHWM R.61-79.270.145(c)(5)
|  | SCHWM R.61-79.270.145(c)(6)
|  | SCHWM R.61-79.270.145(c)(7)
|  | SCHWM R.61-79.270.145(c)(8)
|  | SCHWM R.61-79.270.145(c)(9)
|  | SCHWM R.61-79.270.145(d) intro
|  | SCHWM R.61-79.270.145(d)(1)
|  | SCHWM R.61-79.270.145(d)(2)
|  | SCHWM R.61-79.270.145(d)(3)
|  | SCHWM R.61-79.270.150(a)
|  | SCHWM R.61-79.270.150(b)
|  | SCHWM R.61-79.270.150(c)
|  | SCHWM R.61-79.270.150(d)
|  | SCHWM R.61-79.270.150(e)
|  | SCHWM R.61-79.270.150(f)
|  | SCHWM R.61-79.270.150(f)(1)
|  | SCHWM R.61-79.270.150(f)(2)
|  | SCHWM R.61-79.270.150(f)(3)
|  | SCHWM R.61-79.270.150(f)(4)
|  | SCHWM R.61-79.270.150(f)(5)
|  | SCHWM R.61-79.270.150(f)(6)
|  | SCHWM R.61-79.270.150(f)(7)
|  | SCHWM R.61-79.270.150(g)
|  | SCHWM R.61-79.270.155(a)
|  | SCHWM R.61-79.270.155(a)(1)
|  | SCHWM R.61-79.270.155(a)(2)
|  | SCHWM R.61-79.270.155(a)(3)
|  | SCHWM R.61-79.270.155(b)
|  | SCHWM R.61-79.270.160
|  | SCHWM R.61-79.270.160(a)
|  | SCHWM R.61-79.270.160(b)
|  | SCHWM R.61-79.270.160(c)
HWIR-Media, Checklist 75 cont., RCRA Cluster IX, HSWA/non HSWA Provision | 63 FR 65874-65947, November 30, 1998 | SCHWM R.61-79.270.165 SCHWM R.61-79.270.170 SCHWM R.61-79.270.175(a) intro SCHWM R.61-79.270.175(a)(1) SCHWM R.61-79.270.175(a)(1) SCHWM R.61-79.270.175(a)(2)
|  | SCHWM R.61-79.270.175(a)(3)
|  | SCHWM R.61-79.270.175(a)(4)
|  | SCHWM R.61-79.270.175(a)(5)
|  | SCHWM R.61-79.270.175(a)(6)
|  | SCHWM R.61-79.270.175(a)(7)
|  | SCHWM R.61-79.270.175(a)(8)
|  | SCHWM R.61-79.270.175(b)
|  | SCHWM R.61-79.270.175(c)
|  | SCHWM R.61-79.270.180(a)
|  | SCHWM R.61-79.270.180(b)
|  | SCHWM R.61-79.270.185
|  | SCHWM R.61-79.270.190(a)
|  | SCHWM R.61-79.270.195
|  | SCHWM R.61-79.270.200
|  | SCHWM R.61-79.270.205
|  | SCHWM R.61-79.270.210 intro
|  | SCHWM R.61-79.270.210(a)
|  | SCHWM R.61-79.270.210(b)
|  | SCHWM R.61-79.270.215(a)
|  | SCHWM R.61-79.270.215(b)
|  | SCHWM R.61-79.270.215(c)
|  | SCHWM R.61-79.270.215(d)
|  | SCHWM R.61-79.270.220(a)
|  | SCHWM R.61-79.270.220(b)
|  | SCHWM R.61-79.270.225
|  | SCHWM R.61-79.270.230(a)
|  | SCHWM R.61-79.270.230(b)
|  | SCHWM R.61-79.270.230(c)
|  | SCHWM R.61-79.270.230(d) intro
|  | SCHWM R.61-79.270.230(d)(1)
|  | SCHWM R.61-79.270.230(d)(2)
|  | SCHWM R.61-79.270.230(d)(3)
|  | SCHWM R.61-79.270.230(d)(4)
|  | SCHWM R.61-79.270.230(e)
|  | SCHWM R.61-79.270.230(e)(1)
|  | SCHWM R.61-79.270.230(e)(2)
Organic Air Emissions Standards: Clarification and Technical, Amendments, Checklist 177, RCRA Cluster IX, HSWA Provision | 64 FR 3382, January 21, 1999 | SCHWMA § 44-56-30 SCHWMA § 44-56-130 SCHWMA R.61-79.262.34(a)(1)(i) SCHWM R.61-79.262.34(a)(1)(ii) SCHWM R.61-79.264.1031 SCHWM R.61-79.264.1080(b)(5) SCHWM R.61-79.264.1083(a)(1)(i)
Organic Air Emissions Standards: Clarificaiton and Technical Amendments, Checklist 177 cont., RCRA Cluster, IX, HSWA Provision | 64 FR 3382, January 21, 1999 | SCHWM R.61-79.264.1083(a)(1)(ii) SCHWM R.61-79.264.1083(b)(1)(i) SCHWM R.61-79.264.1083(b)(1)(ii) SCHWM R.61-79.264.1084(h)(3) intro SCHWM R.61-79.264.1084(h)(3)(i) SCHWM R.61-79.264.1084(h)(3)(ii) SCHWM R.61-79.264.1086(e)(6)
|  | SCHWM R.61-79.265.1080(b)(5)
|  | SCHWM R.61-79.265.1084(a)(1)(i)
|  | SCHWM R.61-79.265.1084(a)(1)(ii)
|  | SCHWM R.61-79.265.1084(a)(3)(ii)(B)
|  | SCHWM R.61-79.265.1084(a)(3)(ii)(D)
|  | SCHWM R.61-79.265.1084(a)(3)(iii)
|  | SCHWM R.61-79.265.1084(b)(1)(i)
|  | SCHWM R.61-79.265.1084(b)(1)(ii)
|  | SCHWM R.61-79.265.1084(b)(3)(ii)(B)
|  | SCHWM R.61-79.265.1084(b)(3)(ii)(D)
|  | SCHWM R.61-79.265.1084(b)(3)(iii)
|  | SCHWM R.61-79.265.1085(h)(3)
|  | SCHWM R.61-79.265.1085(h)(3)(i)
|  | SCHWM R.61-79.265.1085(h)(3)(ii)
|  | SCHWM R.61-79.265.1087(e)(6)
Petroleum Refining Process Wastes Leachate Exemption, Checklist 178, RCRA Cluster IX, HSWA Provision | 64 FR 6806, February 11, 1999 | SCHWMA § 44-56-30 SCHWM R.61-79.261.4(b)(15) intro SCHWM R.61-79.261.4(b)(15)(i) SCHWM R.61-79.261.4(b)(15)(ii) SCHWM R.61-79.261.4(b)(15)(iii) SCHWM R.61-79.261.4(b)(15)(iv) SCHWM R.61-79.261.4(b)(15)(v)
Land Disposal Restrictions Phase IV—Technical Corrections and Clarifications to Treatment Standards, Checklist 179, RCRA Cluster IX, HSWA/non-HSWA Provision | 64 FR 25408-25417, May 11, 1999 | SCHWMA § 44-45-30 SCHWMA § 44-56-130 SCHWM R.61-79.261.2(c)(3) SCHWM R.61-79.261.2(c)(4)/Table SCHWM R.61-79.261.2(e)(1)(iii) SCHWM R.61-79.261.4(a)(16) SCHWM R.61-79.261.4(a)(17) intro SCHWM R.61-79.261.4(b)(7)(iii)
|  | SCHWM R.61-79.261.4(b)(7)(iii)(A)
|  | SCHWM R.61-79.262.34(d)(4)
|  | SCHWM R.61-79.268.2(h)
|  | SCHWM R.61-79.268.2(k)
|  | SCHWM R.61-79.268.7(a)(4)/Table
|  | SCHWM R.61-79.268.7(b)(3)(ii)/Table
|  | SCHWM R.61-79.268.7(b)(4)(iv)
|  | SCHWM R.61-79.268.9(d)(2) intro
|  | SCHWM R.61-79.268.9(d)(2)(i)
|  | SCHWM R.61-79.268.40(i) first
Land Disposal Restrictions Phase IV—Technical Corrections and Clarifications to Treatment Standards, Checklist 179 cont., RCRA Cluster IX, HSWA/non-HSWA Provision | 64 FR 25408-25417, May 11, 1999 | SCHWM R.61-79.268.40(i) second SCHWM R.61-79.268.40(j) SCHWM R.61-79.268.40/Table SCHWM R.61-79.268.48(a)/Table SCHWM R.61-79.268.49(c)(3) intro SCHWM R.61-79.268.49(c)(3)(A) SCHWM R.61-79.268.49(c)(3)(B)
Test Procedures for the Analysis of Oil and Grease and Non-Polar Material, Checklist 180, RCRA Cluster IX, non-HSWA Provision | 64 FR 26315-26327, May 14, 1999 | SCHWMA § 44-56-30 SCHWMA § 44-56-40 SCHWMA § 44-56-50 SCHWMA § 44-56-130 SCHWM R.61-79.260.11(a)(11) SCHWM R.61-79.260.11(a)(16)
Universal Waste Rule: Specific Provisions for Hazardous Waste Lamps, Checklist 181, RCRA Cluster X, non-HSWA Provision | 64 FR 36466-36490, July 6, 1999 | SCHWMA § 44-56-30 SCHWM R.61-79.260.10 SCHWM R.61-79.261.9(b) SCHWM R.61-79.261.9(c) SCHWM R.61-79.261.9(d) SCHWM R.61-79.264.1(g)(11)(ii) SCHWM R.61-79.264.1(g)(11)(iii) SCHWM R.61-79.264.1(g)(11)(iv)
|  | SCHWM R.61-79.265.1(c)(14)(ii)
|  | SCHWM R.61-79.265.1(c)(14)(iii)
|  | SCHWM R.61-79.265.1(c)(14)(iv)
|  | SCHWM R.61-79.268.1(f)(2)
|  | SCHWM R.61-79.268.1(f)(3)
|  | SCHWM R.61-79.268.1(f)(4)
|  | SCHWM R.61-79.270.1(c)(2)(viii)(B)
|  | SCHWM R.61-79.270.1(c)(2)(viii)(C)
|  | SCHWM R.61-79.270.1(c)(2)(viii)(D)
|  | SCHWM R.61-79.273.1(a)(2)
|  | SCHWM R.61-79.273.1(a)(3)
|  | SCHWM R.61-79.273.1(a)(4)
|  | SCHWM R.61-79.273.2(a)(1)
|  | SCHWM R.61-79.273.2(b)(2)
|  | SCHWM R.61-79.273.2(b)(3)
|  | SCHWM R.61-79.273.3(a)
|  | SCHWM R.61-79.273.4(a)
|  | SCHWM R.61-79.273.5(a)
|  | SCHWM R.61-79.273.5(b)
|  | SCHWM R.61-79.273.5(c)
|  | SCHWM R.61-79.273.6
|  | SCHWM R.61-79.273.7
|  | SCHWM R.61-79.273.8(a)
Universal Waste Rule: Specific Provisions for Hazardous Waste Lamps, Checklist 181, RCRA Cluster IX, non-HSWA Provision | 64 FR 36466-36490, July 6, 1999 | SCHWM R.61-79.273.8(a)(1) SCHWM R.61-79.273.8(a)(2) SCHWM R.61-79.273.8(b) SCHWM R.61-79.273.9 SCHWM R.61-79.273.10 SCHWM R.61-79.273.13(d) SCHWM R.61-79.273.13(d)(1)
|  | SCHWM R.61-79.273.13(d)(2)
|  | SCHWM R.61-79.273.14(e)
|  | SCHWM R.61-79.273.30
|  | SCHWM R.61-79.273.32(b)(4)
|  | SCHWM R.61-79.273.32(b)(5)
|  | SCHWM R.61-79.273.32(d)
|  | SCHWM R.61-79.273.33(d)(1)
|  | SCHWM R.61-79.273.33(d)(2)
|  | SCHWM R.61-79.273.34(e)
|  | SCHWM R.61-79.273.50
|  | SCHWM R.61-79.273.60(a)
|  | SCHWM R.61-79.273.81(a)
Land Disposal Restrictions Phase IV—Technical Corrections, Checklist 183, RCRA Cluster X, non-HSWA Provision | 64 FR 56469-56472, October 20, 1999 | SCHWMA § 44-56-30 SCHWM R.61-79.261.32 SCHWM R.61-79.262.34(a)(4) SCHWM R.61-79.268.32(a)(3)(iii) SCHWM R.61-79.268.40(j) SCHWM R.61-79.268.40/Table SCHWM R.61-79.268.49(c)(1)(A) SCHWM R.61-79.268.49(c)(1)(B)
Accumulation Time for Waste Water Treatment Sludges, Checklist 184, RCRA Cluster X, non-HSWA Provision | 64 FR 12378-12398, March 8, 2000 | SCHWMA § 44-56-30 SCHWMA § 44-56-50 SCHWM R.61-79.262.34(a)(4) SCHWM R.61-79.262.34(g) intro SCHWM R.61-79.262.34(g)(1)
|  | SCHWM R.61-79.262.34(g)(2)
|  | SCHWM R.61-79.262.34(g)(3)
|  | SCHWM R.61-79.262.34(g)(4) intro
|  | SCHWM R.61-79.262.34(g)(4)(i) intro
|  | SCHWM R.61-79.262.34(g)(4)(i)(A)
|  | SCHWM R.61-79.262.34(g)(4)(i)(B)
|  | SCHWM R.61-79.262.34(g)(4)(i)(C) intro
|  | SCHWM R.61-79.262.34(g)(4)(i)(C)(1) & (2)
|  | SCHWM R.61-79.262.34(g)(4)(ii)
|  | SCHWM R.61-79.262.34(g)(4)(iv)
|  | SCHWM R.61-79.262.34(g)(4)(v)
|  | SCHWM R.61-79.262.34(h)
|  | SCHWM R.61-79.262.34(i)
Organobromide Production Wastes Vacatur, Checklist 185, RCRA Cluster X, HSWA Provision | 64 FR 14472-14475, March 17, 2000 | SCHWMA § 44-56-30 SCHWM R.61-79.261.32/Table SCHWM R.61-79.261.33(f)/Table SCHWM R.61-79.261 Appendix VII SCHWM R.61-79.261 Appendix VIII SCHWM R.61-79.268.33 SCHWM R.61-79.268.40/Table SCHWM R.61-79.268.48(a)/Table
Petroleum Refining Process Wastes Clarification, Checklist 187, RCRA Cluster X, HSWA Provision | 64 FR 36365-36367, June 8, 2000 | SCHWMA § 44-56-30 SCHWM R.61-79.261.31(a)/table SCHWM R.61-79.268 Appendix VII
¹ The South Carolina provisions are from the South Carolina Hazardous Waste Management Regulations, August 20, 2000 (RCRA 8 and 9) and October 26, 2001 (RCRA 10), unless otherwise stated.

H. Where Are the Revised State Rules Different From the Federal Rules?

There are no State requirements that are more stringent or broader in scope than the Federal requirements.

I. Who Handles Permits After the Authorization Takes Effect?

South Carolina will issue permits for all the provisions for which it is authorized and will administer the permits it issues. EPA will continue to administer any RCRA hazardous waste permits or portions of permits which we issued prior to the effective date of this authorization. We will not issue any more new permits or new portions of permits for the provisions listed in the Table above after the effective date of this authorization. EPA will continue to implement and issue permits for HSWA requirements for which South Carolina is not yet authorized.

J. How Does Today's Action Affect Indian Country (18 U.S.C. 115) in South Carolina?

South Carolina is not authorized to carry out its hazardous waste program in Indian country within the State, which includes the Catawba Indian Nation. Therefore, this action has no effect on Indian country. EPA will continue to implement and administer the RCRA program in these lands.

K. What is Codification and is EPA Codifying South Carolina's Hazardous Waste Program as Authorized in This Rule?

Codification is the process of placing the State's statutes and regulations that comprise the State's authorized hazardous waste program into the Code of Federal Regulations. We do this by referencing the authorized State rules in 40 CFR part 272. We reserve the amendment of 40 CFR part 272, subpart PP for this authorization of South Carolina's program changes until a later date.

L. Administrative Requirements

The Office of Management and Budget has exempted this action from the requirements of Executive Order 12866 (58 FR 51735, October 4, 1993), and therefore this action is not subject to review by OMB. This action authorizes State requirements for the purpose of RCRA 3006 and imposes no additional requirements beyond those imposed by State law. Accordingly, I certify that this action will not have a significant economic impact on a substantial number of small entities under the Regulatory Flexibility Act (5 U.S.C. 601 et seq.). Because this action authorizes pre-existing requirements under State law and does not impose any additional enforceable duty beyond that required by State law, it does not contain any unfunded mandate or significantly or uniquely affect small governments, as described in the Unfunded Mandates Reform Act of 1995 (Pub. L. 104-4). For the same reason, this action also does not significantly or uniquely affect the communities of Tribal governments, as specified by Executive Order 13175 (65 FR 67249, November 6, 2000). This action will not have substantial direct effects on the States, on the relationship between the national government and the States, or on the distribution of power and responsibilities among the various levels of government, as specified in Executive Order 13132 (64 FR 43255, August 10, 1999), because it merely authorizes State requirements as part of the State RCRA hazardous waste program without altering the relationship or the distribution of power and responsibilities established by RCRA. This action also is not subject to Executive Order 13045 (62 FR 19885, April 23, 1997), because it is not economically significant and it does not make decisions based on environmental health or safety risks. This rule is not subject to Executive Order 13211, “Actions Concerning Regulations That Significantly Affect Energy Supply, Distribution, or Use” (66 FR 28355 (May 22, 2001)) because it is not a significant regulatory action under Executive Order 12866.

Under RCRA 3006(b), EPA grants a State's application for authorization as long as the State meets the criteria required by RCRA. It would thus be inconsistent with applicable law for EPA, when it reviews a State authorization application, to require the use of any particular voluntary consensus standard in place of another standard that otherwise satisfies the requirements of RCRA. Thus, the requirements of section 12(d) of the National Technology Transfer and Advancement Act of 1995 (15 U.S.C. 272) do not apply. As required by section 3 of Executive Order 12988 (61 FR 4729, February 7, 1996), in issuing this rule, EPA has taken the necessary steps to eliminate drafting errors and ambiguity, minimize potential litigation, and provide a clear legal standard for affected conduct. EPA has complied with Executive Order 12630 (53 F.R. 8859, March 15, 1988) by examining the takings implications of the rule in accordance with the “Attorney General's Supplemental Guidelines for the Evaluation of Risk and Avoidance of Unanticipated Takings” issued under the executive order. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this document and other required information to the U.S. Senate, the U.S. House of Representatives, and the Comptroller General of the United States prior to publication in the Federal Register. A major rule cannot take effect until 60 days after it is published in the Federal Register. This action is not a “major rule” as defined by 5 U.S.C. 804(2). This action will be effective November 3, 2003.

List of Subjects in 40 CFR Part 271

Environmental protection, Administrative practice and procedure, Confidential business information, Hazardous waste, Hazardous waste transportation, Indian lands, Intergovernmental relations, Penalties, Reporting and recordkeeping requirements.

Authority: This action is issued under the authority of sections 2002(a), 3006 and 7004(b) of the Solid Waste Disposal Act as amended 42 U.S.C. 6912(a), 6926, 6974(b).

Dated: August 18, 2003.
A. Stanley Meiburg,
Acting Regional Administrator, Region 4.

[FR Doc. 03-22312 Filed 8-29-03; 8:45 am]

BILLING CODE 6560-50-P